FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than March 11, 2020.

A. Federal Reserve Bank of Minneapolis (Chris P. Wangen, Assistant Vice President) 90 Hennepin Avenue, Minneapolis, Minnesota 55480-0291:

1. Karen R. Healy Hurwitt Trust, West Fargo, North Dakota, Karen Hurwitt, Charlotte, Vermont and First Western Bank & Trust, West Fargo, North Dakota, as co-trustees; to retain or acquire voting shares of Lincoln Holding Company, and thereby indirectly retain or acquire voting shares of Lincoln State Bank, both of Hankinson, North Dakota.

Board of Governors of the Federal Reserve System, February 20, 2020.
Yao-Chin Chao,
Assistant Secretary of the Board.

[FR Doc. 2020-03724 Filed 2-24-20; 8:45 am]

BILLING CODE P